NATIONAL TRANSPORTATION SAFETY BOARD

Public Forum—Cruise Ships: Examining Safety, Operations and Oversight

On Tuesday and Wednesday, March 25-26, 2014, The National Transportation Safety Board (NTSB) will convene a forum titled, “Cruise Ships: Examining Safety, Operations and Oversight.” The forum will begin at 9:00 a.m. on both days and is open to all. Attendance is free, and no registration is required. NTSB Chairman Deborah A.P. Hersman will serve as the Presiding Officer of the forum, and all five NTSB board members will serve as members of the Board of Inquiry. The forum is organized into six issue areas:

• Regulatory Framework

• Accident Investigations

• Ship Design and Fire Protection

• Vessel Operations

• Emergency Response

• Corporate Oversight

The forum will also explore some recent high-profile accidents. The forum's goal is to encourage dialogue among industry stakeholders, regulators, and the general public to better understand cruise ship safety and oversight. Invited panelists will include regulators such as the U.S. Coast Guard, vessel owners and operators, researchers and industry groups. Below is the preliminary agenda:

Tuesday, March 25, 2014 (9:00 a.m.-5:00 p.m.)

1. Opening Statement by Chairman Hersman.

2. Opening presentation by the U.S. Coast Guard.

3. Introduction of the Technical Panels and Panelists.

4. Presentations from Panels One, Two, and Three and questions from the Board of Inquiry and the Technical Panels.

5. Closing Statement by Chairman Hersman

Wednesday, March 26, 2014 (9:00 a.m.-5:00 p.m.)

1. Opening Statement by Chairman Hersman.

2. Opening presentation by the Cruise Lines International Association.

3. Introduction of the Technical Panels and Panelists.

4. Presentations from Panels Four, Five, and Six and questions from the Board of Inquiry and the Technical Panels.

5. Closing statement by Chairman Hersman.

The full agenda and a list of participants can be found at: http://www.ntsb.gov/news/events/2014/cruiseshipforum/index.html.

The forum will be held in the NTSB Board Room and Conference Center, located at 429 L'Enfant Plaza E. SW., Washington, DC. The public can view the forum in person or by live webcast at http://www.ntsb.gov. Webcast archives are generally available by the end of the next day following the forum, and webcasts are archived for a period of 3 months after the date of the event.

Individuals requiring reasonable accommodation and/or wheelchair access directions should contact Ms. Rochelle Hall at Rochelle.hall@ntsb.gov or by telephone at (202) 314-6305 by Wednesday, March 19, 2014.

NTSB Media Contact: Eric Weiss—eric.weiss@ntsb.gov.

NTSB Forum Managers: Liam LaRue—liam.larue@ntsb.gov, Barry Strauch, Ph.D.—barry.strauch@ntsb.gov.

Candi R. Bing,
Federal Register Liaison Officer.

[FR Doc. 2014-05150 Filed 3-10-14; 8:45 am]

BILLING CODE P